DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Study Branch, Emergency Preparedness and Response Directorate, Federal Emergency Management Agency, 500 C Street SW., Washington, DC 20472, (202) 646-2903.

SUPPLEMENTARY INFORMATION: Federal Emergency Management Agency makes the final determinations listed below of the modified BFEs for each community listed. These modified elevations have been published in newspapers of local 2 circulation and ninety (90) days have elapsed since that publication. The Mitigation Division Director of the Emergency Preparedness and Response Directorate has resolved any appeals resulting from this notification.

The modified BFEs are not listed for each community in this notice. However, this rule includes the address of the Chief Executive Officer of the community where the modified BFEs determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act: The Mitigation Division Director of the Emergency Preparedness and Response Directorate certifies that this rule is exempt form the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implication under Executive Order 12612, Federalism, dated October 26, 1987.

Executive Order 12778, Civil Justice Reform. This rule meets the applicable standards of Section 2(b)(2) of Executive Order 12778.

List of Subjects in 44 CFR Part 65

Flood insurance, Floodplains, Reporting and Recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community number
Arizona: Cochise (FEMA Docket No.: B-7436) | City of Sierra Vista (01-09-019P) | Dec. 26, 2002, Jan. 2, 2003, Sierra Vista Herald | The Honorable Thomas J. Hessler, Mayor, City of Sierra Vista, 1011 North Coronado Drive, Sierra Vista, Arizona 85635 | Jul. 31, 2001 | 040017
Arizona: Cochise (FEMA Docket No.: B-7436) | City of Sierra Vista (00-09-1071P) | Dec. 26, 2002, Jan. 2, 2003, Sierra Vista Herald | The Honorable Thomas J. Hessler, Mayor, City of Sierra Vista, 1011 North Coronado Drive, Sierra Vista, Arizona 85635 | Apr. 24, 2001 | 040017
Arizona: Cochise (FEMA Docket No.: B-7436) | Unincorporated Areas (00-09-1071P) | Jan. 17, 2001, Jan. 24, 2001, Arizona Range News | The Honorable Pat Call, Chairman, Cochise County, Board of Supervisors, 1415 West Melody Lane, Bisbee, Arizona 85603 | Apr. 24, 2001 | 040012
Arizona: Cochise (FEMA Docket No.: B-7436) | City of Willcox (02-09-726P) | Feb. 19, 2003, February 26, 2003, Arizona Range News | The Honorable Marlin Easthouse, Mayor, City of Willcox, 101 South Railroad Avenue, Willcox, Arizona 85643 | Jan. 27, 2003 | 040018
Arizona: Coconino (FEMA Docket No.: B-7434) | City of Flagstaff (00-09-745P) | Nov. 7, 2002, Nov. 14, 2002, Arizona Daily Sun | The Honorable Joseph C. Donaldson, Mayor, City of Flagstaff, 211 West Aspen Avenue, Flagstaff, Arizona 86001 | Jan. 4, 2001 | 040020
Arizona: Coconino (FEMA Docket No.: B-7436) | Unincorporated Areas (02-09-1336P) | Feb. 13, 2003, Feb. 20, 2003, Arizona Daily Sun | The Honorable Deb Hill, Chairperson, Coconino County, Board of Supervisors, 219 East Cherry Avenue, Flagstaff, Arizona 86001 | Jan. 30, 2003 | 040019
Arizona: Maricopa (FEMA Docket No.: B-7436) | City of Avondale (03-09-0278P) | Feb. 20, 2003, Feb. 27, 2003, Arizona Republic | The Honorable Ronald J. Drake, Mayor, City of Avondale, 525 North Central Avenue, Avondale, Arizona 85323 | Feb. 12, 2003 | 040038
Arizona: Maricopa (FEMA Docket No.: B-7434) | Town of Cave Creek (00-09-495P) | Nov. 7, 2002, Nov. 14, 2002, Arizona Business Gazette | The Honorable Vincent Francia, Mayor, Town of Cave Creek, 37622 North, Cave Creek Road, Arizona 85331 | Feb. 15, 2001 | 040129
Arizona: Maricopa (FEMA Docket No.: B-7434) | City of Chandler (01-09-006P) | Nov. 7, 2002, Nov. 14, 2002, Arizona Republic | The Honorable Boyd Dunn, Mayor, City of Chandler, 55 North Arizona Place, Suite 3014, Chandler, Arizona 85225 | Dec. 13, 2000, | 040040
Arizona: Maricopa (FEMA Docket No.: B-7436) | City of El Mirage (01-09-017P) | Feb. 6, 2003, Feb. 13, 2003, Arizona Republic | The Honorable Robert Robles, Mayor, City of El Mirage, P.O. Box 26, El Mirage, Arizona 85335 | May 15, 2003 | 040041
Arizona: Maricopa (FEMA Docket No.: B-7436) | City of Glendale (01-09-017P) | Feb. 6, 2003, Feb. 13, 2003, Arizona Republic | The Honorable Elaine M. Scruggs, Mayor, City of Glendale, 5850 West Glendale Avenue, Glendale, Arizona 85301 | May 15, 2003 | 040045
Arizona: Maricopa (FEMA Docket No.: B-7434) | City of Goodyear (00-09-975P) | Nov. 6, 2002, Nov. 13, 2002, West Valley View | The Honorable Bill Arnold, Mayor, City of Goodyear, 190 North Litchfield Road, Goodyear, Arizona 85338 | Dec. 19, 2000 | 040046
Arizona: Maricopa (FEMA Docket No.: B-7436) | City of Mesa (02-09-950P) | Jan. 9, 2003, Jan. 16, 2003, Arizona Business Gazette | The Honorable Keno Hawker, Mayor, City of Mesa, P.O. Box 1466, Mesa, Arizona 85211-1466 | Apr. 17, 2003 | 040048
Arizona: Maricopa (FEMA Docket No.: B-7436) | City of Peoria (01-09-017P) | Feb. 6, 2003, Feb. 13, 2003, Arizona Republic | The Honorable John C. Keegan, Mayor, City of Peoria, 8401 West Monroe Street, Peoria, Arizona 85345 | May 15, 2003 | 040050
Arizona: Maricopa (FEMA Docket No.: B-7434) | City of Phoenix (00-09-495P) | Nov. 7, 2002, Nov. 14, 2002, Arizona Business Gazette | The Honorable Skip Rimsza, Mayor, City of Phoenix, 200 West Washington, 11th Floor, Phoenix, Arizona 85003-1611 | Feb. 15, 2001 | 040051
Arizona: Maricopa (FEMA Docket No.: B-7436) | City of Phoenix (02-09-934P) | Apr. 10, 2003, Apr. 17, 2003, Arizona Business Gazette | The Honorable Skip Rimzsa, Mayor, City of Phoenix, 200 West Washington Street, 11th Floor, Phoenix, Arizona 85003-1611 | Jul. 17, 2003 | 040051
Arizona: Maricopa (FEMA Docket No.: B-7436) | City of Tolleson (02-09-943P) | Apr. 10, 2003, Apr. 17, 2003, Arizona Business Gazette | The Honorable Adolfo F. Gamez, Mayor, City of Tolleson, 9555 West Van Buren Street, Tolleson, Arizona 85353 | Jul. 17, 2003 | 040055
Arizona: Maricopa (FEMA Docket No.: B-7434) | Unincorporated Areas (00-09-495P) | Nov. 7, 2002, Nov. 14, 2002, Arizona Business Gazette | The Honorable Don Stapley, Chairman, Maricopa County, Board of Supervisors, 301 West Jefferson, 10th Floor, Phoenix, Arizona 85003 | Feb. 15, 2001 | 040037
Arizona: Maricopa (FEMA Docket No.: B-7436) | Unincorporated Areas (01-09-017P) | Feb. 6, 2003, Feb. 13, 2003, Arizona Republic | The Honorable Don Stapley, Chairman, Maricopa County, Board of Supervisors, 301 West Jefferson, 10th Floor, Phoenix, Arizona 85003 | May 15, 2003 | 040037
Arizona: Pima (FEMA Docket No.: B-7436) | City of Tucson (02-09-1252P) | Feb. 27, 2003, Mar. 6, 2003, Daily Territorial | The Honorable Robert Walkup, Mayor, City of Tucson, P.O. Box 27210, Tucson, Arizona 85726 | Feb. 12, 2003 | 040076
California: Kern (FEMA Docket No.: B-7436) | City of Arvin (02-09-866P) | Apr. 17, 2003, Apr. 24, 2003, Bakersfield Californian | The Honorable Juan Olivares, Mayor, City of Arvin, 200 Campus Drive, Arvin, California 93203 | Jul. 17, 2003 | 060076
California: Kern (FEMA Docket No.: B-7436) | City of Bakersfield (02-09-866P) | Apr. 17, 2003, Apr. 24, 2003, Bakersfield Californian | The Honorable Harvey L. Hall, Mayor, City of Bakersfield, City Hall, 1501 Truxtun Avenue, Bakersfield, California 93301 | Jul. 17, 2003 | 060077
California: Kern (FEMA Docket No.: B-7436) | Unincorporated Areas (02-09-866P) | Apr. 17, 2003, Apr. 24, 2003, Bakersfield Californian | The Honorable Pete H. Parra, Chair, Kern County, Board of Supervisors, 1115 Truxtun Avenue, Fifth Floor, Bakersfield, California 93301-4617 | Jul. 17, 2003 | 060075
California: Los Angeles (FEMA Docket No.: B-7436) | City of Los Angeles (02-09-0035P) | Feb. 13, 2003, Feb. 20, 2003, Los Angeles Times | The Honorable James Hahn, Mayor, City of Los Angeles, City Hall, 200 North Spring Street, Room 303, Los Angeles, California 90012 | May 15, 2003 | 060137
California: Monterey (FEMA Docket No.: B-7434) | Unincorporated Areas (02-09-869P) | Dec. 12, 2002, Dec. 19, 2002, Californian | The Honorable Dave Potter, Chairman, Monterey County, Board of Supervisors, P.O. Box 180, Salinas, California 93902 | Mar. 20, 2003 | 060195
California: Orange (FEMA Docket No.: B-7436) | City of Orange (02-09-910P) | Feb. 13, 2003, Feb. 20, 2003, Orange County Register | The Honorable Mark A. Murphy, Mayor, City of Orange, 300 East Chapman Avenue, Orange, California 92866 | May 22, 2003 | 060228
California: Orange (FEMA Docket No.: B-7436) | City of Buena Park (02-09-1323P) (03-09-1164P) | Mar. 12, 2003, Mar. 19, 2003, Buena Park Independent | The Honorable Steve Berry, Mayor, City of Buena Park, 6650 Beach Boulevard, Buena Park, California 90622-5009 | Jun. 18, 2003 | 060215
California: Placer (FEMA Docket No.: B-7436) | City of Roseville (02-09-1258P) | Feb. 19, 2003, Feb. 26, 2003, Roseville Press-Tribune | The Honorable Rocky Rockholm, Mayor, City of Roseville, 311 Vernon Street, Roseville, California 95679 | May 28, 2003 | 060243
California; Riverside (FEMA Docket No.: B-7436) | City of Riverside (01-09-652P) | Mar. 20, 2003, Mar. 27, 2003, Press Enterprise | The Honorable Ronald O. Loveridge, Mayor, City of Riverside, 3900 Main Street, Riverside, California 92522 | Jun. 26, 2003 | 060260
California: Sacramento (FEMA Docket No.: B-7434) | Unincorporated Areas (02-09-1169P) | Oct. 17, 2002, Oct. 24, 2003, Daily Recorder | The Honorable Roger Niello, Chairman, Sacramento County, Board of Supervisors, 700 H Street, Room 2450, Sacramento, California 95814 | Jan. 23, 2003 | 060262
California: San Diego (FEMA Docket No.: B-7436) | City of Escondido (02-09-714P) | Jan. 16, 2003, Jan. 23, 2003, North County Times | The Honorable Lori Holt Pfeiler, Mayor, City of Escondido, 201 North Broadway, Escondido, California 92025 | Apr. 24, 2003 | 060290
California: San Diego (FEMA Docket No.: B-7436) | City of Poway (03-9-0026P) | Feb. 20, 2003, Feb. 27, 2003, Poway News Chieftain | The Honorable Mickey Cafagna, Mayor, City of Poway, P.O. Box 789, Poway, California 92074-0789 | May 29, 2003 | 060702
California: San Diego (FEMA Docket No: B-7436) | City of San Diego (02-09-1505P) | Jan. 23, 2003, Jan. 30, 2003, San Diego Union Tribune | The Honorable Richard M. Murphy, Mayor, City of San Diego, 202 C Street, 11th Floor, San Diego, California 92101 | May 1, 2003 | 060295
California: San Diego (FEMA Docket No.: B-7436) | Unincorporated Areas (02-09-714P) | Jan. 16, 2003, Jan. 23, 2003, North County Times | The Honorable Ron Roberts, Chairman, San Diego County, Board of Supervisors, 1600 Pacific Highway, Room 335, San Diego, California 92101 | Apr. 24, 2003 | 060284
California: San Diego (FEMA Docket No.: B-7436) | Unincorporated Areas (03-09-0198P) | Apr. 17, 2003, Apr. 24, 2003, San Diego Union-Tribune | The Honorable Greg Cox, Chairman, San Diego County, Board of Supervisors, 1600 Pacific Highway, Room 335, San Diego, California 92101 | Jul. 24, 2003 | 060284
California: Santa Barbara (FEMA Docket No. B-7436) | Unincorporated Areas (03-09-0009P) | Apr. 17, 2003, Apr. 24, 2003, Santa Barbara News-Press | The Honorable Naomi Schwartz, Chair, Santa Barbara County, Board of Supervisors, 105 East Anapamu Street, Santa Barbara, California 93101 | Mar. 18, 2003 | 060331
California: Santa Clara (FEMA Docket No.: B-7434) | Town of Los Gatos (01-09-159P) | Oct. 16, 2002, Oct. 23, 2002, Los Gatos Weekly-Times | Mr. John Curtis, P.E., Director of Parks and Public Works, Town of Los Gatos, P.O. Box 949, Los Gatos, California 95031 | Jan. 22, 2003 | 060343
California: Santa Clara (FEMA Docket No.: B-7429) | City of San Jose (02-09-1264P) | Apr. 25, 2002, May 2, 2002, San Jose Mercury News | The Honorable Ron Gonzales, Mayor, City of San Jose, 801 North First Street, Room 600, San Jose, California 95110 | Oct. 21, 2002 | 060349
California: Santa Clara (FEMA Docket No.: B-7429) | Unincorporated Areas (02-09-1264P) | Apr. 25, 2002, May 2, 2002, San Jose Mercury News | The Honorable Donald F. Gage, Chairman, Santa Clara County, Board of Supervisors, East Wing, 10th Floor, 70 West Hedding Street, San Jose, California 95110 | Oct. 21, 2002 | 060337
California: Santa Clara (FEMA Docket No.: B-7434) | Unincorporated Areas (01-09-159P) | Oct. 16, 2002, Oct. 23, 2002, Los Gatos Weekly-Times | The Honorable Donald F. Gage, Chairman, Santa Clara County, Board of Supervisors, East Wing, 10th Floor, 70 West Hedding Street, San Jose, California 95110 | Jan. 22, 2003 | 060337
California: Shasta (FEMA Docket No.: B-7346) | City of Anderson (03-09-0704X) | Mar. 18, 2003, Mar. 25, 2003, The Valley Post | The Honorable Norma R. Comnick, Mayor, City of Anderson, City Hall, 1887 Howard Street, Anderson, California 96007 | Jun. 25, 2003 | 060359
California: Ventura (FEMA Docket No.: B-7434) | City of Camarillo (02-09-583P) | Oct. 24, 2002, Oct. 31, 2002, Ventura County Star | The Honorable Jan McDonald, Mayor, City of Camarillo, 601 Carmen Drive, Camarillo, California 93010 | Jan. 30, 2003 | 065020
California: Ventura (FEMA Docket No.: B-7434) | City of Simi Valley (03-09-0051X) | Nov. 14, 2002, Nov. 24, 2002, Ventura County Star | The Honorable William Davis, Mayor, City of Simi Valley, 2929 Tapo Canyon Road, Simi Valley, California 93063 | Nov. 6, 2002 | 060421
California: Ventura (FEMA Docket No.: B-7436) | City of Simi Valley (02-09-1500P) | Jan. 23, 2003, Jan. 30, 2003, Ventura County Star | The Honorable William Davis, Mayor, City of Simi Valley, 2929 Tapo Canyon Road, Simi Valley, California 93063 | Dec. 19, 2002 | 060421
California: Ventura (FEMA Docket No.: B-7434) | Unincorporated Areas (02-09-1213P) | Oct. 31, 2002, Nov. 7, 2002, Fillmore Gazette | The Honorable Frank Schillo, Chairman, Ventura County Board of Supervisors, 800 South Victoria Avenue, Ventura, California 93009 | Feb. 6, 2003 | 060413
California: Ventura (FEMA Docket No.: B-7436) | Unincorporated Areas (03-09-0007P) | Mar. 27, 2003, Apr. 3, 2003, Ventura County Star | The Honorable Judy Mikels, Chair, Ventura County Board of Supervisors, 800 South Victoria Avenue, Ventura, California 93009 | Mar. 5, 2003 | 060413
California: Yolo (FEMA Docket No.: B-7436) | City of Woodland (02-09-1469P) | Apr. 2, 2003, Apr. 9, 2003, Davis Enterprise | The Honorable David Flory, Mayor, City of Woodland, City Hall, 300 First Street, Woodland, California 95695 | Jul. 9, 2003 | 060426
California: Yolo (FEMA Docket No.: B-7436) | Unincorporated Areas (02-09-1469P) | Apr. 2, 2003, Apr. 9, 2003, Davis Enterprise | The Honorable Lynnel Pollock, Chair, Yolo County Board of Supervisors, 625 Court Street, Room 204, Woodland, California 95695 | Jul. 9, 2003 | 060423
Colorado: Adams (FEMA Docket No.: B-7434) | City of Commerce City (02-08-283P) | Oct. 24, 2002, Oct. 31, 2002, Denver Post | The Honorable E.E. “Casey” Hayes, Mayor, City of Commerce City, 5291 East 60th Avenue, Commerce, City, Colorado 80022 | Jan. 30, 2003 | 080006
Colorado: Adams (FEMA Docket No.: B-7434) | City of Thornton (02-08-283P) | Oct. 24, 2002, Oct. 31, 2002, Denver Post | The Honorable Noel Busck, Mayor, City of Thornton, 9500 Civic Center Drive, Thornton, CO 80229 | Jan. 30, 2003 | 080007
Colorado: Adams (FEMA Docket No.: B-7434) | Unincorporated Areas (02-08-283P) | Oct. 24, 2002, Oct. 31, 2002, Denver Post | The Honorable Martin Flaum, Chairman, Adams County, Board of Commissioners, 450 South Fourth Avenue, Brighton, Colorado 80601 | Jan. 30, 2003 | 080001
Colorado: Adams (FEMA Docket No.: B-7436) | City of Westminster (02-08-211P) | Feb. 20, 2003, Feb. 27, 2003, Westminster Window | The Honorable Ed Moss, Mayor, City of Westminster, 4800 West 92nd Avenue, Westminster, Colorado 80031 | May 29, 2003 | 080008
Colorado: Adams (FEMA Docket No.: B-7436) | Unincorporated Areas (02-08-211P) | Feb. 20, 2003, Feb. 27, 2003, Westminster Window | The Honorable Ted Strickland, Chairman, Adams County, Board of Commissioners, 450 South Fourth Avenue, Brighton, Colorado 80601 | May 29, 2003 | 080001
Colorado: Adams, Boulder, Jefferson, Weld (FEMA Docket No.: B-7434) | City of Broomfield (02-08-156P) | Nov., 20, 2002, Nov. 27, 2002, Denver Post | The Honorable Karen Stuart, Mayor, City and County of Broomfield, One Des Combes Drive, Broomfield, Colorado 80020 | Feb. 26, 2003 | 085073
Colorado: Boulder (FEMA Docket No.: B-7434) | City of Boulder (02-08-340P) | Nov. 21, 2002, Nov. 28, 2002, Denver Post | The Honorable William R. Toor, Mayor, City of Boulder, 1777 Broadway, Boulder, Colorado 80306 | Feb. 27, 2003 | 080024
Colorado: Douglas (FEMA Docket No.: B-7434) | Town of Parker (02-08-171P) | Oct. 10, 2002, Oct. 17, 2002, Denver Post | The Honorable Gary Lasater, Mayor, Town of Parker, 20120 East Main Street, Parker, Colorado 80138 | Jan. 16, 2003 | 080310
Colorado: Douglas (FEMA Docket No.: B-7436) | Town of Parker (02-08-491P) | Mar. 19, 2003, Mar. 26, 2003, Douglas County News-Press | The Honorable Gary Lasater, Mayor, Town of Parker, 20120 East Main Street, Parker, Colorado 80138-7334 | Jun. 25, 2003 | 080310
Colorado: Douglas (FEMA Docket No.: B-7434) | Unincorporated Areas (02-08-171P) | Oct. 10, 2002, Oct. 17, 2002, Denver Post | The Honorable James R. Sullivan, Chairman, Douglas County, Board of Commissioners, 100 Third Street, Castle Rock, Colorado 80104 | Jan. 16, 2003 | 080049
Colorado: Douglas (FEMA Docket No.: B-7436) | Unincorporated Areas (01-08-358P) | Jan. 16, 2003, Jan. 23, 2003, Denver Post | The Honorable Melanie Worley, Chair, Douglas County, Board of Commissioners, 100 Third Street, Castle Rock, Colorado 80104 | Apr. 24, 2003 | 080049
Colorado: Douglas (FEMA Docket No.: B-7436) | Unincorporated Areas (02-08-491P) | Mar. 19, 2003, Mar. 26, 2003, Douglas County News-Press | The Honorable Melanie Worley, Chair, Douglas County, Board of Commissioners, 100 Third Street, Castle Rock, Colorado 80104 | Jun. 25, 2003, | 080049
Colorado: El Paso (FEMA Docket No.: B-7431) | City of Colorado Springs (02-08-325P) | Sept. 5, 2002, Oct. 24, 2002, The Gazette | The Honorable Mary Lou Makepeace, Mayor, City of Colorado Springs, P.O. Box 1575, Colorado Springs, Colorado 80901-1575 | Aug. 21, 2002 | 890060
Colorado: El Paso (FEMA Docket No.: B-7436) | City of Colorado Springs (02-08-490P) | Mar. 26, 2003, Apr. 2, 2003, The Gazette | The Honorable Mary Lou Makepeace, Mayor, City of Colorado Springs, P.O. Box 1575, Colorado Springs, Colorado 80901 | July 2, 2003 | 080060
Colorado: Fremont (FEMA Docket No.: B-7436) | Unincorporated Areas (02-08-269P) | Dec. 11, 2002, Dec. 18, 2002, Canon City Daily Record | The Honorable Joe Rall, Chair, Fremont County Board of Commissioners, 615 Macon Avenue, Canon City, Colorado 81212 | Mar. 19, 2003 | 080067
Colorado: Garfield (FEMA Docket No.: B-7434) | City of Rifle (02-08-123P) | Dec. 26, 2002, Jan. 2, 2003, Citizen Telegram | The Honorable Keith Lambert, Mayor, City of Rifle, 202 Railroad Avenue, Rifle, Colorado 81650 | Dec. 4, 2002 | 085078
Colorado: Jefferson (FEMA Docket No.: B-7436) | City of Lakewood (03-08-0090P) | Feb. 27, 2003, Mar. 6, 2003, Lakewood Sentinel | The Honorable Steve Burkholder, Mayor, City of Lakewood, Lakewood Civic Center South, 480 South Allison Parkway, Lakewood, Colorado 80226-3127 | Jun. 5, 2003 | 085075
Colorado: Jefferson (FEMA Docket No.: B-7431) | Unincorporated Areas (02-08-368P) | Sept. 25, 2002, Nov. 27, 2002, Canyon Courier, Columbine Courier | The Honorable Richard M. Sheehan, Chairman, Jefferson County, Board of Commissioners, 100 Jefferson County Parkway, Golden, Colorado 80419 | Dec. 25, 2002 | 080087
Colorado: Larimer (FEMA Docket No.: B-7434) | City of Fort Collins (01-08-092P) | Nov. 7, 2002, Nov. 14, 2002, Fort Collins Coloradoan | The Honorable Ray Martinez, Mayor, City of Fort Collins, P.O. Box 580, Fort Collins, Colorado 80522-0580 | May 30, 2001 | 080102
Colorado: Larimer (FEMA Docket No.: B-7436) | City of Fort Collins (02-08-499P) | Feb. 13, 2003, Feb. 20, 2003, Fort Collins Coloradoan | The Honorable Ray Martinez, Mayor, City of Fort Collins, P.O. Box 580, Fort Collins, Colorado 80522-0580 | May 22, 2003 | 080102
Hawaii: Hawaii (FEMA Docket No.: B-7434) | Hawaii County (99-09-680P) | Nov. 7, 2002, Nov. 14, 2002, Hawaii Tribune Herald | The Honorable Harry Kim, Mayor, Hawaii County, 25 Aupuni Street, Hilo, Hawaii 96720 | Aug. 15, 2000 | 155166
Hawaii: Hawaii (FEMA Docket No.: B-7436) | Hawaii County (02-09-1456P) | Jan. 16, 2003, Jan. 23, 2003, Hawaii Tribune Herald | The Honorable Harry Kim, Mayor, Hawaii County, 25 Aupuni Street, Hilo, Hawaii 96720 | Apr. 24, 2003 | 155166
Hawaii: Honolulu (FEMA Docket No.: B-7434) | City and County of Honolulu (00-09-244P) | Nov. 7, 2002, Nov. 14, 2002, Honolulu Star Bulletin | The Honorable Jeremy Harris, Mayor, City and County of Honolulu, 530 South King Street, Honolulu, Hawaii 96813 | Feb. 1, 2001 | 150001
Hawaii: Maui (FEMA Docket No.: B-7436) | Maui County (03-09-0144P) | Jan. 30, 2003, Feb. 6, 2003, Maui News | The Honorable James H. Apana, Mayor, County of Maui, 200 South High Street, Wailuku, Hawaii 96793 | May 8, 2003 | 150003
Idaho: Ada (FEMA Docket No.: B-7436) | Unincorporated Areas (03-10-0228P) | Mar. 13, 2003, Mar. 20, 2003, Idaho Statesman | The Honorable Judy M. Peavey-Derr, Chairman, Ada County, Board of Commissioners, 200 West Front Street, Boise, Idaho 83702 | Feb. 20, 2003 | 160002
Idaho: Blaine (FEMA Docket No.: B-7436) | Unincorporated Areas (02-10-700P) | Feb. 12, 2003, Feb. 19, 2003, Wood River Journal | The Honorable Mary Ann Mix, Chair, Blaine County, Board of Commissioners, 206 First Avenue South, Suite 300, Hailey, Idaho 83333 | May 21, 2003 | 165167
Idaho: Bonner (FEMA Docket No.: B-7436) | City of Clark Fork (02-10-714X) | Jan. 3, 2003, Jan. 10, 2003, Bonner County Daily Bee | The Honorable Tom Shields, Mayor, City of Clark Fork, P.O. Box 10, Clark Fork, Idaho 83811 | Dec. 18, 2002 | 160132
Idaho: Bonner (FEMA Docket No.: B-7436) | Unincorporated Areas (02-10-714X) | Jan. 3, 2003, Jan. 10, 2003, Bonner County Daily Bee | The Honorable Jerry Clemons, Chair, Bonner County, Board of Commissioners, 215 South First Avenue, Sandpoint, Idaho 83864 | Dec. 18, 2002 | 160206
Idaho: Canyon (FEMA Docket No.: B-7436) | City of Middleton (02-10-391P) | Mar. 27, 2003, Apr. 3, 2003, Idaho Press Tribune | The Honorable Frank McKeever, Mayor, City of Middleton, City Hall, P.O. Box 176, Middleton, Idaho 83644 | Jul. 3, 2003 | 160037
Idaho: Canyon (FEMA Docket No.: B-7436) | Unincorporated Areas (02-10-391P) | Mar. 27, 2003, Apr. 3, 2003, Idaho Press Tribune | The Honorable Todd Lakey, Chairman, Canyon County Board of Commissioners, 1115 Albany Street, Caldwell, Idaho 83605-3522 | Jul. 3, 2003 | 160208
Montana: Gallatin (FEMA Docket No.: B-7434) | City of Bozeman (00-08-367P) | Nov. 7, 2002, Nov. 14, 2002, Bozeman Daily Chronicle | The Honorable Steven Kirchhoff, Mayor, City of Bozeman, P.O. Box 1230, Bozeman, Montana 59771-1230 | Dec. 20, 2000 | 300028
Texas: Bexar (FEMA Docket No.: B-7434) | City of San Antonio (00-06-862P) | Nov. 7, 2002, Nov. 14, 2002, San Antonio Express News | The Honorable Ed Garza, Mayor, City of San Antonio, P.O. Box 839966, San Antonio, Texas 78283-3966 | Apr. 2, 2001 | 480045
Texas: Collin (FEMA Docket No.: B-7431) | City of Frisco (00-06-1133P) | Feb. 1, 2002, Feb. 8, 2002, Frisco Enterprise | The Honorable Kathi Seei, Mayor, City of Frisco, City Hall, P.O. Box 1100, Frisco, Texas 75034 | Nov. 2, 2000 | 480134
Texas: Dallas (FEMA Docket No.: B-7431) | City of Dallas (99-06-1120P) | Jan. 31, 2002, Feb. 7, 2002, Dallas Morning News | The Honorable Ron Kirk, Mayor, City of Dallas, 1500 Marilla Street, Dallas, Texas 75201 | Nov. 13, 2000 | 480171
Texas: Denton (FEMA Docket No.: B-7436) | City of Lewisville (00-06-841P) | Feb. 21, 2003, Feb. 26, 2003, Denton County Morning News | The Honorable Gene Carey, Mayor, City of Lewisville, P.O. Box 299002, Lewisville, Texas 75029-9002 | Aug. 2, 2001 | 480195
Utah: Washington (FEMA Docket No.: B-7434) | City of St. George (02-08-101P) | Dec. 19, 2002, Dec. 26, 2002, Spectrum | The Honorable Daniel McArthur, Mayor, City of St. George, 175 East 200 North, St. George, Utah 84770 | Mar. 27, 2003 | 490177
Washington: King (FEMA Docket No.: B-7436) | Unincorporated Areas (02-10-452P) | Feb. 13, 2003, Feb. 20, 2003, Seattle Times | The Honorable Ron Sims, King County Executive, King County Courthouse, 516 Third Avenue, Suite 400, Seattle, Washington 98104 | May 22, 2003 | 530071
Washington: Spokane (FEMA Docket No.: B-7434) | Unincorporated Areas (02-10-614P) | Dec. 17, 2002, Dec. 24, 2002, Spokesman-Review | Ms. Francine Boxer, Chief Executive Officer, Spokane County, 1116 West Broadway Avenue, Spokane, Washington 99260 | Mar. 25, 2003 | 530174

(Catalog of Federal Domestic Assistance No. 83.100, “Flood Insurance.”)

Dated: August 8, 2003.
Anthony S. Lowe,
Mitigation Division Director, Emergency Preparedness and Response Directorate.

[FR Doc. 03-21003 Filed 8-15-03; 8:45 am]

BILLING CODE 6718-04-P